NATIONAL COUNCIL ON DISABILITY

Sunshine Act Meetings

TIME AND DATES: The Members of the National Council on Disability (NCD) will meet for a board meeting on Friday, July 22, from 9 a.m.-4 p.m., ET. Please refer to the NCD Web site (http://www.ncd.gov) for any late changes to the meeting times.

PLACE: The board meeting will occur at the Access Board Conference Room, 1331 F Street, NW., Suite 800, Washington, DC.

STATUS: This meeting will be open to the public.

MATTERS TO BE CONSIDERED: The agenda for the board meeting includes a review of the agency's bylaws and strategic plan, as well as presentations by Karen Peltz-Strauss, Deputy Chief, Consumer & Governmental Affairs, regarding the Twenty-First Century Communications and Video Accessibility Act, and by Judy Heumann, State Department Special Advisor for International Disability Rights, regarding the United Nations Convention on the Rights of Persons with Disabilities.

A public comment session will be held from 1 until 1:30 p.m., ET. Individuals interested in making public comments may do so in-person, by phone, or by providing written comments by e-mail, fax, or mail. The toll-free call-in number is 1-888-211-4542, and the passcode/conference ID is 6478082. The conference call's leader's name is Jonathan Young, if asked for this information, and the title of the call is “NCD meeting.” Written comments on disability-related issues of concern or interest may be mailed to NCD's office at 1331 F Street, NW., Suite 850, Washington, DC 20004; faxed to the NCD office at (202) 272-2022; or may also be e-mailed to ncd@ncd.gov at any time.

CONTACT PERSON FOR MORE INFORMATION: Anne Sommers, NCD, 1331 F Street, NW., Suite 850, Washington, DC 20004; 202-272-2004 (V), 202-272-2074 (TTY).

ACCOMMODATIONS: Those who plan to attend and require accommodations should notify NCD as soon as possible to allow time to make arrangements.

Dated: July 12, 2011.
Aaron Bishop,
Executive Director.

[FR Doc. 2011-17941 Filed 7-13-11; 11:15 am]

BILLING CODE 6820-MA-P